DEPARTMENT OF VETERANS AFFAIRS

38 CFR Part 36

RIN 2900-AM38

Amended Delegation of Authority—Property Management Contractor

AGENCY: Department of Veterans Affairs.

ACTION: Final rule.

SUMMARY: The Department of Veterans Affairs (VA) is amending its delegation of authority to the property management contractor under its housing loan program. This amendment will permit the property management contractor's Regional Managers to execute documents necessary for the management and sale of single-family properties acquired by VA under its housing loan guaranty program.

DATES: Effective Date: May 30, 2006.

FOR FURTHER INFORMATION CONTACT: William W. Lutes, Assistant Director for Property Management and Strategic Development (263), Veterans Benefits Administration, Department of Veterans Affairs, 810 Vermont Ave., Washington, DC 20420, telephone 202-273-7379.

SUPPLEMENTARY INFORMATION: The provisions of 38 U.S.C. chapter 37 authorize the Secretary of Veterans Affairs to guarantee (or make) loans to veterans. Following the termination of guaranteed loans that have been in serious default, the holder of such loan may, pursuant to 38 U.S.C. 3732(c), elect to convey to the Secretary the property which had secured the loan. VA sells the properties so acquired to the general public in order to reduce the loss to the Federal Treasury on the guaranteed loan. The sale of such properties is not a veterans' benefit granted under title 38, United States Code.

VA has contracted with a private entity to handle the management and resale of VA's inventory of acquired properties. To facilitate the contract's objectives, VA, in 38 CFR 36.4342(f)(2), has delegated to designated officials of that entity the authority to execute, on behalf of VA, routine documents necessary for the management and sale of VA acquired properties. The designated officials under such delegation are the Senior Vice President, Vice President, Assistant Vice President, Assistant Secretary, Director, and Senior Manager.

This rule amends 38 CFR 36.4342(f)(2) to add the position of “Regional Manager” to the list of officers of the contractor to whom the Secretary has delegated authority to execute such property management and sales documents. Workload and staffing of the contractor has led VA to conclude that so expanding the list of positions to which this authority is delegated will increase the efficiency of the administration of the property management contract.

Administrative Procedure Act

This final rule concerns agency statements of policy, organization, procedure, or practice, and pursuant to 5 U.S.C. 553, is exempt from the notice and comment and delayed effective date requirements.

Unfunded Mandates

The Unfunded Mandates Reform Act requires, at 2 U.S.C. 1532, that agencies prepare an assessment of anticipated costs and benefits before issuing any rule that may result in an expenditure by State, local, and tribal governments, in the aggregate, or by the private sector of $100 million or more (adjusted annually for inflation) in any given year. This final rule would have no such effect on State, local, and tribal governments, or the private sector.

Paperwork Reduction Act

This document contains no provisions constituting a collection of information under the Paperwork Reduction Act (44 U.S.C. 3501-3521).

Regulatory Flexibility Act

The Secretary of Veterans Affairs hereby certifies that this final rule will not have a significant economic impact on a substantial number of small entities as they are defined in the Regulatory Flexibility Act, 5 U.S.C. 601-612. The final rule relates to agency management and personnel and does not contain substantive provisions affecting small entities. Accordingly, pursuant to 5 U.S.C. 605(b), this final rule is exempt from the initial and final regulatory flexibility analysis requirements of sections 603 and 604.

Executive Order 12866

Executive Order 12866 directs agencies to assess all costs and benefits of available regulatory alternatives and, when regulation is necessary, to select regulatory approaches that maximize net benefits (including potential economic, environmental, public health and safety, and other advantages; distributive impacts; and equity). The Order classifies a rule as a significant regulatory action requiring review by the Office of Management and Budget if it meets any one of a number of specified conditions, including: having an annual effect on the economy of $100 million or more, creating a serious inconsistency or interfering with an action of another agency, materially altering the budgetary impact of entitlements or the rights of entitlement recipients, or raising novel legal or policy issues. VA has examined the economic, legal, and policy implications of this final rule and has concluded that it is not a significant regulatory action under Executive Order 12866.

Catalog of Federal Domestic Assistance Numbers

The Catalog of Federal Domestic Assistance program numbers and titles for this final rule are 64.114 Veterans Housing—Guaranteed and Insured Loans and 64.119 Veterans Housing—Manufactured Home Loans.

List of Subjects in 38 CFR Part 36

Condominiums, Flood Insurance, Housing, Indians, Individuals with disabilities, Loan programs-housing and community development, Loan programs, Indians, Loan programs-veterans, Manufactured homes, Mortgage insurance, Reporting and recordkeeping requirements, Veterans.

Approved: April 27, 2006.
Gordon H. Mansfield,
Deputy Secretary of Veterans Affairs.

For the reasons stated in the preamble, the Department of Veterans Affairs amends 38 CFR part 36 as set forth below:

PART 36—LOAN GUARANTY

1. The authority citation for part 36 continues to read as follows:

Authority: 38 U.S.C. 501, 3701-3704, 3707, 3710-3714, 3719, 3720, 3729, 3762, unless otherwise noted.

2. Revise paragraph (f)(2) of § 36.4342 to read as follows:

§ 36.4342 Delegation of authority.

* * * * *

(f) * * *

(2) The designated officers are: Senior Vice President, Vice President, Assistant Vice President, Assistant Secretary, Director, Senior Manager, and Regional Manager.

* * * * *

[FR Doc. E6-8196 Filed 5-26-06; 8:45 am]

BILLING CODE 8320-01-P